ENVIRONMENTAL PROTECTION AGENCY

[FRL—9679-1]

Notification of a Public Meeting and Public Teleconference of the Science Advisory Board (SAB); Perchlorate Advisory Panel

AGENCY: Environmental Protection Agency (EPA).

ACTION: Notice.

SUMMARY: The EPA Science Advisory Board (SAB) Staff Office announces a public meeting and follow-up public teleconference of the SAB Perchlorate Advisory Panel to conduct an advisory activity related to the development of a maximum contaminant level goal (MCLG) for perchlorate.

DATES: The Perchlorate Advisory Panel face-to-face public meeting will be held on Wednesday July 18, 2012 from 9:00 a.m. to 5:00 p.m. (Eastern Time) and Thursday July 19, 2012 from 8:30 a.m. to 3:00 p.m. (Eastern Time). The follow-up teleconference will be held on Tuesday September 25, 2012 from 1 p.m. to 5p.m. (Eastern Time).

ADDRESSES: The Perchlorate Advisory Panel face-to-face public meeting will be held at The Embassy Suites Hotel, 1250 22nd Street NW., Washington, DC 20037. The follow-up teleconference will take place via telephone only.

FOR FURTHER INFORMATION CONTACT: Any member of the public who wants further information concerning the face-to-face public meeting or teleconference may contact Mr. Thomas Carpenter, Designated Federal Officer (DFO), via telephone at (202) 564-4885 or email at carpenter.thomas@epa.gov. General information concerning the SAB can be found on the EPA Web site at http://www.epa.gov/sab.

SUPPLEMENTARY INFORMATION: The SAB was established pursuant to the Environmental Research, Development, and Demonstration Authorization Act, codified at 42 U.S.C. 4365 to provide independent scientific and technical advice to the EPA Administrator on the technical basis for EPA actions. The SAB Staff Office previously announced the formation of the Perchlorate Advisory Panel under the auspices of the SAB in the Federal Register on December 16, 2011 (76 FR 78256-78257) and solicited nominations of experts to serve on this SAB panel. This SAB panel will provide advice, through the chartered SAB, to the Administrator related to the development of an MCLG for perchlorate. The Panel will discuss its advice at the public meeting on July 18-19, 2012 and will discuss its draft report on a subsequent public teleconference call on September 25, 1012.

Availability of Meeting Materials: Prior to the meeting, the review documents, agenda and other materials will be accessible through the calendar link on the blue navigation bar at http://www.epa.gov/sab/.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Interested members of the public may submit relevant written or oral information on the topic of this advisory activity, and/or the group conducting the activity, for the SAB to consider during the advisory process. Input from the public to the SAB will have the most impact if it provides specific scientific or technical information or analysis for SAB committees to consider or if it relates to the clarity or accuracy of the technical information. Members of the public wishing to provide comment should contact the DFO directly. Oral Statements: In general, individuals or groups requesting an oral presentation at a face-to-face public meeting will be limited to five minutes. Parties interested in providing oral statements at the face-to-face meeting should contact Mr. Thomas Carpenter, DFO, in writing (preferably via email) at the contact information noted above by July 10, 2012 to be placed on the list of public speakers for the face-to-face meeting. Parties interested in providing oral statements at the follow-up teleconference should contact Mr. Carpenter by Wednesday September 19, 2012. Written Statements: Written statements for the face-to-face meeting should be supplied to the DFO via email at the contact information noted above by Tuesday, July 10, 2012 so that the information may be made available to the Panel members for their consideration. Written statements for the follow-up teleconference should be supplied to the DFO by Wednesday September 19, 2012. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Thomas Carpenter at (202) 564-4885 or carpenter.thomas@epa.gov. To request accommodation of a disability, please contact Mr. Carpenter preferably at least ten days prior to the face-to-face meeting or follow-up teleconference to give EPA as much time as possible to process your request.

Dated: May 23, 2012.
Vanessa T. Vu,
Director, EPA Science Advisory Board Staff Office.

[FR Doc. 2012-13073 Filed 5-29-12; 8:45 am]

BILLING CODE 6560-50-P